DEPARTMENT OF THE INTERIOR

Fish and Wildlife Service

[FWS-R3-ES-2009-N263; 30120-1113-0000-F6]

Endangered and Threatened Wildlife and Plants; Indiana Bat; 30-Day Scoping Period for a National Environmental Policy Act Decision on a Proposed Habitat Conservation Plan and Incidental Take Permit

AGENCY: Fish and Wildlife Service, Interior.

ACTION: Notice of intent to conduct a 30-day scoping period for a National Environmental Policy Act decision on a proposed habitat conservation plan and incidental take permit; request for comments.

SUMMARY: We, the U.S. Fish and Wildlife Service (Service), intend to prepare a National Environmental Policy Act (NEPA) document for a decision on a proposed habitat conservation plan (HCP) and incidental take permit (ITP) for the Indiana bat (Myotis sodalis) at a wind power project in Champaign County, Ohio. We provide this notice to advise other agencies, tribes, and the public of our intentions, and to obtain suggestions and information on the scope of the NEPA review and issues to consider in the planning process. We are also using this opportunity to seek comments on the appropriate level of NEPA review, and whether an Environmental Assessment (EA) or an Environmental Impact Statement (EIS) would be the appropriate level.

DATES: To ensure consideration, please send your written comments by March 1, 2010.

ADDRESSES: You may submit comments by one of the following methods:

U.S. mail or hand-delivery: Ms. Megan Seymour, U.S. Fish and Wildlife Service, Ohio Field Office, 4625 Morse Rd., Suite 104, Columbus, OH 43230;

E-mail: EverPowerHCP@fws.gov; or

Fax: (614) 416-8994 (Attention: Megan Seymour).

FOR FURTHER INFORMATION CONTACT: Ms. Megan Seymour at (614) 416-8993, extension 16. Individuals who are hearing-impaired or speech-impaired may call the Federal Relay Service at (800) 877-8337 for TTY assistance.

SUPPLEMENTARY INFORMATION:

Public Comments

We request data, comments, new information, or suggestions from the public, other concerned governmental agencies, the scientific community, Tribes, industry, or any other interested party on this notice. We will consider all comments we receive in complying with the requirements of NEPA and in the development of an HCP and ITP. We particularly seek comments concerning:

(1) Biological information concerning the Indiana bat;

(2) Relevant data concerning wind power and bat interactions;

(3) Additional information concerning the range, distribution, population size, and population trends of the Indiana bat;

(4) Current or planned activities in the subject area and their possible impacts on the Indiana bat;

(5) The presence of facilities within the project area which are eligible to be listed on the National Register of Historic Places or whether other historical, archeological, or traditional cultural properties may be present;

(6) The appropriate level of NEPA review, specifically whether development of an Environmental Assessment (EA) or an Environmental Impact Statement (EIS) would be appropriate; and

(7) Identification of any other environmental issues that we should consider with regard to the proposed development and permit action.

You may submit your comments and materials considering this notice by one of the methods listed in the ADDRESSES section.

Comments and materials we receive, as well as supporting documentation we use in preparing the NEPA document, will be available for public inspection by appointment, during normal business hours, at the U.S. Fish and Wildlife Service, Ohio Field Office (see FOR FURTHER INFORMATION CONTACT). You may obtain copies of this notice by mail from the Ohio Field Office, or on the Internet at: http://www.fws.gov/midwest/Endangered/permits/hcp/r3hcps.html.

Background

The Indiana bat was added to the list of Endangered and Threatened Wildlife and Plants on March 11, 1967 (32 FR 4001). It is currently listed as an endangered species under the Endangered Species Act of 1973, as amended (16 U.S.C. 1531 et seq.; ESA). The population decline of this species is attributed to habitat loss and degradation of both winter hibernation habitat and summer roosting habitat, human disturbance during hibernation, and possibly pesticides. An additional and emerging threat to Indiana bats is White-Nose Syndrome (Geomyces destructans), a recently discovered fungus that invades the skin of bats, causing ulcers that may alter hibernation arousal patterns, and which can cause emaciation. The range of the Indiana bat includes much of the eastern United States, and Ohio is located within the core maternity range of the bat. Winter habitat for the Indiana bat includes caves and mines that support high humidity and cool but stable temperatures. In the summer, Indiana bats roost under the loose bark of dead or dying trees. During summer, males roost alone or in small groups, while females and their offspring roost in larger groups of 100 or more. Indiana bats forage for insects in and along the edges of forested areas and wooded stream corridors. Maternity colonies of Indiana bats have recently been detected in Champaign County, Ohio, though no Indiana bat hibernacula have been documented in this county.

EverPower Wind Holdings, Inc. is planning the development of a wind power project in Champaign County, Ohio. The project would be spread across 80,370 acres within portions of Union, Wayne, Urbana, Salem, Rush, and Goshen Townships. Development of the wind power project would include installation of up to 100 wind turbines and associated collection lines, access roads, utility lines, substations, operation and maintenance facility buildings, and temporary staging areas and concrete batch plants. The wind turbine hub height would be approximately 100 meters (m), and the rotor diameter would be approximately 100 m, for an approximate total height of 150 m at the rotor apex. Installation of each individual turbine will temporarily impact an area of approximately 2.9 acres, while the final footprint of each turbine will be approximately 0.2 acres. Access roads to the turbines will have a temporary width of up to 55 feet during construction, and a permanent width of 16-20 feet. Despite the relatively small acreage of land to be affected by the project, impacts to wildlife—particularly birds and bats—are anticipated.

The project is located in a rural setting, with the landscape primarily composed of agricultural properties. Woodlots are scattered throughout the project area. Several small towns (Mutual and Cable) occur within the project area, and individual homes and low-density residential areas are also scattered throughout.

EverPower Wind Holdings, Inc., in conjunction with the Service, has determined that take of Indiana bats is likely to occur from development of the proposed wind power project. To authorize take, EverPower Wind Holdings, Inc. plans to develop an HCP and request issuance of an ITP from the Service. Relevant information provided in response to this notice will aid in developing the HCP and NEPA document, and potentially the ITP, should take be authorized.

At this point, the Service has not developed any alternatives for the NEPA document. Any preferred alternative developed by the Service will contain various measures to avoid and minimize impacts to Indiana bats, including the impact of lethal take. Various methods that may be considered include, but are not limited to: Protection of roost trees and surrounding habitat, set-back distances from known roost trees, mapping and avoidance of foraging areas, protection and enhancement of Indiana bat habitat outside the project area, removal of small woodlots near turbines to preclude expansion of Indiana bat usage near turbines, various curtailment regimes for turbines during prime activity or migration periods, and post-construction monitoring for fatalities.

Authority

We furnish this notice under NEPA regulations (40 CFR 1501.7 and 1508.22). The intent of the notice is to enable us to obtain suggestions and additional information from other agencies and the public on the scope of issues to be considered.

Dated: December 21, 2009.
Lynn M. Lewis,
Assistant Regional Director, Ecological Services, Region 3, Fort Snelling, MN.

[FR Doc. 2010-1810 Filed 1-28-10; 8:45 am]

BILLING CODE 4310-55-P